DEPARTMENT OF THE INTERIOR

National Park Service

National Register of Historic Places; Notification of Pending Nominations and Related Actions

Nominations for the following properties being considered for listing or related actions in the National Register were received by the National Park Service before February 27, 2010. Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-371-6447. Written or faxed comments should be submitted by April 1, 2010.

Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ARIZONA

Maricopa County

Asbury, Cline R./Riney B. Salmon House, (North Central Phoenix Farmhouses and Rural Estate Homes, 1895-1959) 7801 N. Central Ave., Phoenix, 10000154

Converse, Ralph, House, (North Central Phoenix Farmhouses and Rural Estate Homes, 1895-1959) 6617 N. Central Ave., Phoenix, 10000153

Harelson, Sarah and Jack, House, 4437 E. Arlington Rd., Phoenix, 10000152

Olney, George A/Everett E. Ellinwood House, (North Central Phoenix Farmhouses and Rural Estate Homes, 1895-1959) 6810 N. Central Ave, Phoenix, 10000155

Vradenburg, George H., House, (North Central Phoenix Farmhouses and Rural Estate Homes, 1895-1959) 1600 W. Colter St., Phoenix, 10000156

CALIFORNIA

Nevada County

Davis Mill, Three miles NE of Nevada City, Ca., near the S. Fork of the Yuba River., Nevada City, 10000157

GEORGIA

Dooly County

County Training School, (Rosenwald Schools in Georgia, 1912-1937) 190 Ninth St., Vienna, 10000158

IDAHO

Payette County

Portia Club, 225 N. 9th St., Payette, 10000159

IOWA

Pottawattamie County

Parl/Glen Avenues Historic District, 101-508 Glen Ave., 102-471 Park Ave., 209 & 301 W. Pierce, & 524 & 600 Huntington, Council Bluffs, 10000160

MASSACHUSETTS

Franklin County

Shelburne Falls Historic District (Boundary Increase 2010), roughly bounded by Deerfield River, Bridge St., MA Route 2 and Arms Cemetery, Shelburne, 10000161

NORTH CAROLINA

Buncombe County

Biltmore High School, 4 Vanderbilt Park Dr., Asheville, 10000162

Robeson County

Fairmont Commercial Historic District, Bordered Roughly by Byrd St. on the N., Walnut St. on the E., Red Cross St. on the S., & Alley St. on the W., Fairmont, 10000163

Wake County

Holly Springs Masonic Lodge, (Wake County MPS) 224 Raleigh St., Holly Springs, 10000164

RHODE ISLAND

Providence County

Church Hill Grammer School, 81 Park Pl., Pawtucket, 10000165

SOUTH CAROLINA

Horry County

Conway Residential Historic District, (Conway MRA) Main St. on the E., Fifth Ave to the S; Beaty and Burroughs Sts. to the W., and Ninth and Tenth Aves. to the N., Conway, 10000166

Richland County

Hopkins Family Cemetery, Back Swamp Rd., Hopkins, 10000167

VERMONT

Windham County

Grafton Village Historic District, Main St., Rte. 121 E., Townshend Rd., Chester Hill Rd., Kidder Hill Rd., Pleasant St., School St., Middletown Rd., Hinck, Grafton, 10000171

WEST VIRGINIA

Wyoming County

Wyco Church, DR 12/1 apx. 1 mile N. of CR 16, Mullens, 10000168

WISCONSIN

Fond Du Lac County

East Division St.-Sheboygan St. Historic District, East Division St. generally bounded by Oaklawn Ave. and Armory St.; Sheboygan St. generally bounded by Everett St, Fond du Lac, 10000169

Request for RELOCATION has been made for the following resources:

CALIFORNIA

Sutter County

Live Oak Historic Commercial District, Along Broadway between Pennington Rd. and Elm St., Live Oak, 97001657

UTAH

Summit County

Beggs, Ellsworth J., House 703 Park Ave. Park City, 84002240

Request for BOUNDARY INCREASE has been made for the following resources:

WEST VIRGINIA

Jefferson County

Beverley, 1 Burns Farm Rd., Charles Town, 87000486

[FR Doc. 2010-5756 Filed 3-16-10; 8:45 am]

BILLING CODE 4312-51-P